DEPARTMENT OF STATE

[Public Notice 6339]

Determination Pursuant to the Foreign Missions Act, Removing Conditions and Restrictions on the Cuban Interests Section and Its Personnel With Respect to the Acquisition and Disposition of Motor Vehicles in the United States

Summary

The United States Interests Section of the Embassy of Switzerland in Havana, Cuba (“the U.S. Interests Section”), is the mission through which the U.S. communicates with the Government and people of Cuba. The Cuban Government's counterpart mission in the United States is the Cuban Interests Section of the Embassy of Switzerland in Washington, DC (“the Cuban Interests Section”). The Foreign Missions Act of 1982 as amended (22 U.S. Code 4301, et seq., “the Act”) provides the domestic legal authority for regulating “benefits” to foreign missions in the United States and for imposing terms and conditions on the provision of such benefits.

In a Determination published in the Federal Register on August 25, 2003 (Volume 68, Number 164), the Department of State imposed a number of terms and conditions with respect to the acquisition and disposition of motor vehicles by or on behalf of the Cuban Interests Section. Those conditions were imposed as a reciprocal measure because the Cuban Government for some time had imposed restrictions and impediments to the importation, purchase, and resale of vehicles by the U.S. Interests Section in Cuba.

The Department of State is now rescinding the Determination published August 25, 2003, in the Federal Register and lifting all terms and conditions that it imposed on the Cuban Interests Section and its staff and dependent family members with regard to the acquisition and disposition of motor vehicles. Upon the publication of this Determination in the Federal Register, the Cuban Interests Section, its staff, and their dependent family members will be permitted to acquire and dispose of motor vehicles without restriction other than restrictions or other requirements imposed on all foreign missions and their members to obtain specific motor vehicle services from the U.S. Department of State.

Persons Affected by This Action

This Determination applies primarily to the Cuban Interests Section of the Embassy of Switzerland in Washington, DC, its staff, and their dependent family members. It also applies to any person subject to the jurisdiction of the United States, whether a natural person, business, or other entity of any sort, that intends to sell or lease a motor vehicle to, or purchase a motor vehicle from, the Cuban Interests Section or its personnel.

Legal Authority

This Determination is issued pursuant to the Act, which authorizes the Secretary of State to provide “benefits” to foreign missions in the United States and to impose certain terms and conditions upon the provision of such benefits, if such action is reasonably necessary to achieve a statutory purpose identified in the Act. 22 U.S.C. 4304. The term “benefits” is defined to include any of a number of specifically enumerated goods and services as well as “any other benefits as the Secretary may designate.” 22 U.S.C. 4302(a)(1) Pursuant to Department of State Delegation of Authority No. 214, section 14 (September 20, 1994), the authorities that the Act vests in the Secretary of State were delegated by the Secretary to the Assistant Secretary of State for Diplomatic Security, who is also the Director of the Office of Foreign Missions.

Designation of Benefits, Findings, and Specific Determinations

Pursuant to the authority vested in me by and through the above-cited provisions of law and Delegation of Authority, I hereby find and determine as follows:

(1) Designation of Benefits: The acquisition of a motor vehicle is encompassed within the statutory designation of a “benefit” in the Foreign Missions Act because it is a form of transportation. 22 U.S.C. 4302(a)(1)(C). The Determination published in the Federal Register on August 25, 2003 (68 FR 164), also designated the privilege of disposing of a motor vehicle to a U.S. person within the United States as a benefit under the Act.

(2) Findings: The Government of Cuba has indicated that it will immediately end all restrictions on the importation and local purchase of vehicles by the U.S. Interests Section and its staff in Havana, Cuba, if the United States removes the conditions imposed on the acquisition and disposition of vehicles by or on behalf of the Cuban Interests Section and its staff in Washington, DC, which were implemented by the Determination published in the Federal Register on August 25, 2003.

(3) Determination: I hereby determine that it is not necessary at this time, either on the basis of reciprocity or for any other reason, to impose terms or conditions on the acquisition or disposition of vehicles by or on behalf of the Cuban Interests Section and its staff and dependent family members in Washington, DC. The Determination published in the Federal Register on August 25, 2003 (Volume 68, Number 164) is hereby rescinded, and all terms and conditions imposed by that Determination are hereby annulled.

(4) Date of Effect: The provisions of this Determination shall take effect upon its publication in the Federal Register.

(5) Publication of this Determination in the Federal Register constitutes notice to persons subject to the jurisdiction of the United States that terms and conditions on the acquisition and disposition of vehicles by or on behalf of the Cuban Interests Section are hereby rescinded. Persons wishing clarification as to the applicability of this Determination may contact the Office of Foreign Missions, U.S. Department of State, Washington, DC 20520; or by telephone: (202) 647-4554.

Dated: August 14, 2008.
Eric J. Boswell,
Assistant Secretary of State for Diplomatic Security and Director, Office of Foreign Missions, Department of State.

[FR Doc. E8-20309 Filed 8-29-08; 8:45 am]

BILLING CODE 4710-43-P